ENVIRONMENTAL PROTECTION AGENCY

[Regional Docket Nos. V-2006-3, FRL-8501-5]

Clean Air Act Operating Permit Program; Petition for Objection to State Operating Permit for Louisiana Pacific Corporation, Tomahawk, WI

AGENCY: Environmental Protection Agency (EPA).

ACTION: Notice of final order on petition to object to Clean Air Act operating permit.

SUMMARY: This document announces that the EPA Administrator has responded to a petition asking EPA to object to a Clean Air Act (Act) operating permit issued by the Wisconsin Department of Natural Resources. Specifically, the Administrator granted in part and denied in part the petition submitted by David Bender of Garvey McNeil & McGillivray, S.C., on behalf of the Sierra Club, to object to the operating permit for Louisiana Pacific Corporation's Tomahawk, Wisconsin, facility.

Pursuant to section 505(b)(2) of the Act, a petitioner may seek in the United States Court of Appeals for the appropriate circuit judicial review of those portions of the petition which EPA denied. Any petition for review shall be filed within 60 days from the date this notice appears in the Federal Register, pursuant to section 307 of the Act.

ADDRESSES: You may review a copy of the final order, the petition, and other supporting information at the EPA, Region 5 Office, 77 West Jackson Boulevard, Chicago, Illinois 60604. If you wish to examine these documents, you should make an appointment at least 24 hours before visiting day. Additionally, the final order for the Louisiana Pacific petition is available electronically at: http://yosemite.epa.gov/r5/ardcorre.nsf/permits.

FOR FURTHER INFORMATION CONTACT: Pamela Blakley, Chief, Air Permits Section, Air Programs Branch, Air and Radiation Division, EPA, Region 5, 77 West Jackson Boulevard, Chicago, Illinois 60604, telephone (312) 886-4447.

SUPPLEMENTARY INFORMATION: The Act affords EPA a 45-day period to review, and object to as appropriate, operating permits proposed by state permitting authorities. Section 505(b)(2) of the Act authorizes any person to petition the EPA Administrator within 60 days after the expiration of the EPA review period to object to state operating permits if EPA has not done so. A petition must be based only on objections to the permit that were raised with reasonable specificity during the public comment period provided by the state, unless the petitioner demonstrates that it was impracticable to raise issues during the comment period, or the grounds for the issues arose after this period.

On May 15, 2006, the EPA received a petition from David Bender of Garvey McNeil & McGillivray, S.C., on behalf of the Sierra Club, that EPA object to the Title V operating permit for the Louisiana Pacific Tomahawk facility. The petition raised issues regarding: (1) The sufficiency of monitoring for visible and particulate matter emissions; (2) the alleged failure to include federally enforceable applicable State Implementation Plan limits; (3) language that allegedly violates the credible evidence rule; and (4) conditions that allegedly are not practically enforceable.

On November 5, 2007, the Administrator issued an order granting in part and denying in part the petition. The order explains the reasons behind EPA's conclusion.

Dated: November 20, 2007.
Bharat Mathur,
Acting Regional Administrator, Region 5.

[FR Doc. E7-23479 Filed 12-3-07; 8:45 am]

BILLING CODE 6560-50-P